ENVIRONMENTAL PROTECTION AGENCY

[FRL-6872-6]

ILCO Superfund Site; Notice of Proposed Settlements

AGENCY: Environmental Protection Agency.

ACTION: Notice of Proposed Settlements.

SUMMARY: The United States Environmental Protection Agency is proposing to enter into a settlement with nine proposed settlors for response costs pursuant to Section 122(h)(1) of the Comprehensive Environmental Response, Compensation, and Liability Act (CERCLA), 42 U.S.C. 9622(h)(1) concerning the Interstate Lead Company Site (ILCO) located in Leeds, Jefferson County, Alabama. The proposed settlors are: (1) Beebe Batteries, Inc.; (2) Courtesy Metal Company, Inc.; (3) E&J Metal Co.; (4) Hawker Powersource, Inc., f/k/a KW Powersource; (5) Mason City Iron & Metal Co.; (6) Midwest Iron and Metal Company, Inc.; (7) MIP, Inc.; (8) Hurwich Iron Company, Inc., f/k/a South Bend Baling and Iron Co., Inc. and (9) National Compressed Steel Corporation. EPA will consider public comments on the proposed settlement for thirty (30) days. EPA may withdraw from or modify the proposed settlement should such comments disclose facts or considerations which indicate the proposed settlement is inappropriate, improper or inadequate. Copies of the proposed settlement are available from: Ms. Paula V. Batchelor, U.S. EPA, Region 4 (WMD-PSB), 61 Forsyth Street SW., Atlanta, Georgia 30303, (404) 562-8887.

Written comments may be submitted to Ms. Batchelor within 30 calendar days of the date of this publication.

Dated: September 6, 2000.
Franklin E. Hill,
Chief, CERCLA Program Services Branch, Waste Management Division

[FR Doc. 00-24046 Filed 9-18-00; 8:45 am]

BILLING CODE 6560-50-P